DEPARTMENT OF HEALTH AND HUMAN SERVICES

National Institutes of Health

National Cancer Institute; Amended Notice of Meeting

Notice is hereby given of a change in the meeting of the National Cancer Institute Council of Research Advocates, September 14, 2020, 12:00 p.m. to September 14, 2020, 4:00 p.m., National Institutes of Health, Building 31, 9000 Rockville Pike, Bethesda, MD 20892 which was published in the Federal Register on August 14, 2020, 85 FR 49663.

This meeting notice is amended to change the meeting start time. The meeting will now be held from 1:00 p.m. to 4:00 p.m. on September 14, 2020. The meeting is open to the public.

Dated: September 8, 2020.
Melanie J. Pantoja,
Program Analyst, Office of Federal Advisory Committee Policy.

[FR Doc. 2020-20119 Filed 9-11-20; 8:45 am]

BILLING CODE 4140-01-P